DEPARTMENT OF TRANSPORTATION

Office of the Secretary

49 CFR Part 40

[Docket OST-99-6578]

RIN 2105-AC49

Procedures for Transportation Workplace Drug and Alcohol Testing Programs

AGENCY: Office of the Secretary, DOT.

ACTION: Notice of public meetings.

SUMMARY: The U.S. Department of Transportation (DOT) is scheduling three public listening sessions on its notice of proposed rulemaking (NPRM) to revise the Department's drug and alcohol testing procedures, published in the Federal Register on December 9, 1999 ( 64 FR 69076 ). The meetings are scheduled approximately 90 days after the publication of the NPRM to provide the public time to read and review the document. The intent of the meetings is to obtain additional information from the public that was not submitted in formal comments to the docket.

DATES AND ADDRESSES: The public meetings will be held on March 20 and 21, 2000, at the Ronald Reagan Building and International Trade Center, 1300 Pennsylvania Avenue, NW., Washington, DC 20004; on March 28, 2000, at the Hilton Los Angeles Airport, 5711 West Century Boulevard, Los Angeles, CA 90045, telephone number (310) 410-4000, fax (310) 410-6177; and on March 30, 2000, at the Crowne Plaza, Dallas Market Center, 7050 Stemmons Freeway, Dallas, TX 75247, telephone number (214) 630-8500, fax (214) 630-0037. Meeting facilities may accommodate only a limited number of attendees and all participants and commenters must pre-register to ensure entry into the meetings. Registration procedures are specified under supplemental information below. Other persons will be accommodated as space and time permit.

FOR FURTHER INFORMATION CONTACT: For general meeting information and to register for one of the meetings, contact the DOT contractor, Marti Bludworth, Transportation Safety Institute (TSI), Special Programs Division, DTI-100, 4400 Will Rogers Parkway, Suite 205, Oklahoma City, OK 73108-2057, telephone number (800) 862-4832, extension 323, fax number (405) 946-4268, or e-mail marti_bludworth@tsi.jccbi.gov.

SUPPLEMENTARY INFORMATION:

A. Purpose

The purpose of the meetings is to provide all segments of the transportation industry and the general public with an opportunity to make statements, which have not already been made previously, to the docket. These meetings would also give DOT the opportunity to ask questions and ensure that the public comments are clearly understood by the Department. It may also give the Department the opportunity to clarify issues related to comments that had already been submitted to the docket during the early days of the formal comment period. Questions by commenters and other attendees to the DOT will be permitted as time allows.

B. Procedural Matters

The meeting in Washington, DC will be held for a day and a half to provide ample opportunity for attendees to make comments and for DOT to have additional time, if needed, to ask follow up questions. This geographic location will also provide added opportunity for additional DOT staff and industry representatives from the Capital area to attend the meeting. All facilities will be ADA accessible. The Department will provide sign-language interpreters, if requested. Attendees needing this accommodation should notify TSI no later than February 28, 2000. If no requests are received, this service may not be available.

Because these are listening sessions, DOT will not offer space for vendors or exhibitors to display their products.

All meetings will have limited, first-come-first-served capacity due to physical constraints of the facilities. “First come” will be based on the date that the registration information is received by TSI. Once the capacity of the meeting room is reached, DOT will not be able to ensure entry to subsequent applicants. TSI will confirm those who are registered as attendees, those who are registered to speak, and those for whom space is not available. Provisions may be made at the meeting sites to grant additional admission to offset “no-shows” who previously registered for attendance.

C. Registration Procedures

All attendees, to include commenters, must pre-register with TSI for these meetings. For all attendees, the following information is requested: Full name, full mailing address, and telephone number (in case the address is not legible or additional information is needed); the name of the city at which you want to attend the meeting; and if you will register at the hotel to take advantage of blocked rooms (Los Angeles and Dallas only). TSI will confirm your attendance by mail.

Commenters must provide the same information listed above and, in addition, indicate which agency, association, company, or institution they are representing and which issue they will address (e.g., Collection, MRO, Laboratory).

For convenience to the public, a form has been developed to simplify registration for these meetings. A copy may be obtained from TSI or from the DOT Fax-On-Demand system, by calling (800) 225-3784 and requesting document number 140; the registration form will be faxed to the requestor. Use of the form will expedite the process of registration and provide quicker notification to attendees.

Please note that attendees at the Washington, DC meeting will have to make arrangements for hotels and other lodging facilities on their own, since the meeting is being held in a Federal building. Names, addresses, and telephone numbers of local hotels can be obtained from TSI and will be included in the registration packet. The hotels in Los Angeles and Dallas have blocked out rooms for attendees at group rates. These will be available on a first-come basis. Room reservations must be made by the attendees directly with the hotel. Group rates will be available until March 6, 2000, at the Los Angeles and Dallas hotels, after which, they may revert to normal rates.

D. Written Statements

Individuals, whether speaking in a personal or a representative capacity on behalf of an organization, will be limited to a 4-minute statement. The Department will try to accommodate all individuals wishing to present statements at these meetings. If the available time does not permit this, individuals will be scheduled based on the date their registration is received by TSI. However, the Department reserves the right to exclude some individuals from speaking to avoid duplication or if it is necessary to present a balance of viewpoints and issues.

Individuals wishing to make statements are requested to submit three copies of their comments to be received by TSI no later than February 28, 2000; statements received after that date may not be selected. These should be typed for clarity, include the commenters name, address, phone number, and which agency or group you represent. These will be placed into the docket following the meetings and will be available to the public for review. The Department will not be recording the statements read at the meetings. However, the Department plans to record the two scheduled question and answer sessions and any questions asked by the panel of the commenters or the attendees and their answers.

E. Tentative Agenda

The following is a draft agenda and may be modified based on commenters input and type of statements submitted. There will be a question and answer session after the morning session and again after the afternoon session. Questions should be submitted at the meeting site on 3 x 5 cards at the time of registration for the morning sessions and at the registration desk following lunch, for the afternoon sessions. Please note that the Washington, DC meeting will be scheduled for one and a half days, will start at 9 a.m. both days, and will end at 5 p.m. on the first day and 1 p.m. on the second day. Also, there will be no registration on the previous evening; registration will begin at 7:30 a.m. on the day of the meeting. The Washington, DC meeting agenda will be similar to the one day agenda, with additional time for statements and question and answer sessions.

Tentative Agenda for Los Angeles, CA and Dallas, TX Meetings

Previous evening: Registration 6 p.m.-8 p.m.

7-7:45 Registration

8-8:15 Opening remarks—administrative announcements

8:15-9 presentation

9-9:45 Collection Issues

9:45-10:15 Break

10:15-11:15 Labor/Management/Employee Issues

11:15-12 Alcohol Testing Issues

12-12:30 Questions and Answers

12:30-2 LUNCH

2-2:45 Medical Review Officer (MRO) Issues

2:45-3:30 Substance Abuse Professional (SAP) Issues

3:30-4 Break

4-4:45 Service Agents/Public Interest Exclusion Issues

4:45-5:30 Laboratory Issues

5:30-6:30 Questions and Answers; General Comments and Wrap Up

These meetings are intended to solicit additional information and public views on the NPRM.

Issued this 11th Day of January, 2000, at Washington, DC.
Mary Bernstein,
Director, Office of Drug and Alcohol, Policy and Compliance, Department of Transportation.

[FR Doc. 00-1004 Filed 1-14-00; 8:45 am]

BILLING CODE 4910-62-U